DEPARTMENT OF LABOR

Employment and Training Administration

[TA-W-83,346]

Von Hoffman Corporation, a Subsidiary of RR Donnelley & Sons Company, Jefferson City Plant, Including On-Site Leased Workers From Employment Plus and Manpower, Jefferson City, Missouri; Notice of Revised Determination on Reconsideration

On April 8, 2014, the Department of Labor (Department) issued an Affirmative Determination Regarding Application for Reconsideration applicable to workers and former workers of Von Hoffman Corporation, a subsidiary of RR Donnelley & Sons Company, Jefferson City Plant, including on-site leased workers from Employment Plus and Manpower, Jefferson City, Missouri (subject firm). The Department's Notice of determination was published in the Federal Register on April 29, 2014 (79 FR 24014). Workers are engaged in employment related to the production of educational textbooks and commercial catalogues.

During the reconsideration investigation, the Department carefully reviewed previously-submitted information, obtained additional information from the subject firm, and conducted an industry analysis of like or directly competitive articles.

Previously-provided information reveals that a significant number or proportion of workers at the subject firm was separated and that sales and production at the subject firm declined.

Based on new information obtained during the reconsideration investigation, the Department determines that increased imports of articles like or directly competitive with those produced by the subject firm contributed importantly to worker separations.

Conclusion

After careful review of the additional facts obtained on reconsideration, I determine that workers of the subject firm, who were engaged in employment related to production of textbooks and catalogues, meet the worker group certification criteria under Section 222(a) of the Act, 19 U.S.C. § 2272(a). In accordance with Section 223 of the Act, 19 U.S.C. § 2273, I make the following certification:

All workers of Von Hoffman Corporation, a subsidiary of RR Donnelley & Sons Company, Jefferson City Plant, including on-site leased workers from Employment Plus and Manpower, Jefferson City, Missouri, who became totally or partially separated from employment on or after December 26, 2012, through two years from the date of this certification, and all workers in the group threatened with total or partial separation from employment on date of certification through two years from the date of certification, are eligible to apply for adjustment assistance under Chapter 2 of Title II of the Trade Act of 1974, as amended.

Signed in Washington, DC, this 27th day of June, 2014.
Del Min Amy Chen,
Certifying Officer, Office of Trade Adjustment Assistance.

[FR Doc. 2014-17434 Filed 7-23-14; 8:45 am]

BILLING CODE 4510-FN-P